DEPARTMENT OF COMMERCE

National Oceanic and Atmospheric Administration

[I.D. 040306B]

Atlantic Coastal Fisheries Cooperative Management Act Provisions; Application for Exempted Fishing Permits

AGENCY: National Marine Fisheries Service (NMFS), National

Oceanic and Atmospheric Administration (NOAA), Commerce.

ACTION: Notification of a request for Exempted Fishing Permits to conduct experimental fishing; request for comments.

SUMMARY: This Exempted Fishing Permit (EFP) application is a continuation of a collaborative project involving the University of New Hampshire (UNH), Durham, New Hampshire (NH); the Lobster Conservancy, Friendship, Maine; the New England Aquarium, Boston, Massachusetts; and the Atlantic Offshore Lobstermen's Association, Candia, NH. The EFP proposes to continue monitoring a total of 150 legal sized egg bearing female lobsters (berried lobsters) carrying early-stage eggs until the eggs mature and are released. Each berried lobster will be tagged and fitted with a small ambient temperature recording device (Tidbit temperature-loggers) and then the movement and egg-development stages of these tagged berried lobsters will be documented. When a tagged berried lobster is recaptured in commercial lobster gear, participating lobstermen will download thermal data from the attached Tidbit temperature-logger, and also preserve a maximum of 10 eggs from each tagged berried lobster to allow researchers to estimate the egg developmental stage and time to maturity. The tagged berried lobsters will then be released unharmed. The EFP would waive the prohibition on removal of eggs specified at 50 CFR 697.7(c)(1)(iv) for a maximum of 16 participating vessels and is limited to the 150 pre-tagged berried lobsters in this project.

The Director, State, Federal and Constituent Programs Office, Northeast Region, NMFS (Office Director) has made a preliminary determination that the subject EFP application contains all the required information and warrants further consideration. The Office Director has also made a preliminary determination that the activities authorized under the EFPs would be consistent with the goals and objectives of Federal management of the American lobster resource. However, further review and consultation may be necessary before a final determination is made to issue EFPs. Therefore, NMFS announces that the Office Director proposes to issue EFPs that would allow a maximum of 16 Federally permitted commercial fishing vessels to participate in the continuation of a project designed to monitor the movement of berried lobsters in two inshore locations in the vicinity of Portsmouth, New Hampshire, and Friendship, Maine, and in two offshore locations along the northern edge of Georges Bank and in Corsair and Lydonia Canyons to the southeast of Georges Bank.

This project would not involve the authorization of any additional trap gear, and all trap gear would conform to existing Federal lobster regulations. There would be no anticipated adverse effects on protected resources or habitat as a result of this research. Therefore, this document invites comments on the issuance of EFPs to allow a maximum of 16 commercial fishing vessels in possession of Federal lobster permits to remove a maximum of 10 eggs each time any one of the 150 tagged berried lobsters are captured during the course of normal fishing operations in the designated study areas.

DATES: Comments on this lobster EFP notification for berried lobster monitoring and data collection must be received on or before April 24, 2006.

ADDRESSES: Written comments should be sent to Patricia A. Kurkul, Regional Administrator, NMFS, Northeast Regional Office, 1 Blackburn Drive, Gloucester, MA 01930-2298. Mark the outside of the envelope “Comments - Lobster EFP Proposal”. Comments also may be sent via facsimile (fax) to 978-281-9117. Comments on the Lobster EFP Proposal may be submitted by e-mail. The mailbox address for providing e-mail comments is Lobster2006@noaa.gov. Include in the subject line of the e-mail comment the following document identifier: “Comments - Lobster EFP Proposal”.

FOR FURTHER INFORMATION CONTACT: Bob Ross, Fishery Management Specialist, (978) 281-9234, fax (978)-281-9117.

SUPPLEMENTARY INFORMATION:

Background

The regulations that govern exempted fishing, at 50 CFR 600.745(b) and 697.22 allow the Regional Administrator to authorize for limited testing, public display, data collection, exploration, health and safety, environmental clean-up, and/or hazardous removal purposes, and the targeting or incidental harvest of managed species that would otherwise be prohibited. An EFP to authorize such activity may be issued, provided there is adequate opportunity for the public to comment on the EFP application, the conservation goals and objectives of Federal management of the American lobster resource are not compromised, and issuance of the EFP is beneficial to the management of the species.

The American lobster fishery is one of the most valuable fisheries in the northeastern United States. In 2004, approximately 75 million pounds (34,169 metric tons (mt)) of American lobster were landed with an ex-vessel value of approximately 315 million dollars. Operating under the Atlantic States Marine Fisheries Commission's interstate management process, American lobster are managed in state waters under Amendment 3 to the American Lobster Interstate Fishery Management Plan (Amendment 3). In Federal waters of the Exclusive Economic Zone (EEZ), lobster is managed under Federal regulations at 50 CFR part 697. Amendment 3, and compatible Federal regulations established a framework for area management, which includes industry participation in the development of a management program which suits the needs of each lobster management area while meeting targets established in the Interstate Fisheries Management Program. The industry, through area management teams, with the support of state agencies, have played a vital role in advancing the area management program.

American lobster experience very high fishing mortality rates throughout their range, from Canada to Cape Hatteras, North Carolina. Although harvest and population abundance are near record levels due to high recent recruitment and favorable environmental conditions, there is significant risk of a sharp drop in abundance, and such a decline would have serious implications. To facilitate the development of effective management tools, extensive monitoring and detailed data on the biology and composition of lobsters throughout the range of the resource are necessary. To facilitate effective management, this proposed EFP would monitor egg growth and development of tagged berried lobsters in four study areas using traditional lobster trap gear.

Proposed EFP

The EFP proposes to continue the collection of statistical and scientific information as part of a project, originally announced in the Federal Register on October 21, 2004 (69 FR 19165), that is designed to monitor the movement of tagged berried lobsters to collect data that will assist in the assessment of the lobster resource and in the development of management practices appropriate to the fishery. Participants in this project are funded by, and under the direction of the Northeast Consortium, a group of four research institutions (University of New Hampshire, University of Maine, Massachusetts Institute of Technology, and Woods Hole Oceanographic Institution) which are working together to foster this initiative.

Each of the maximum of 16 commercial fishing vessels in possession of Federal lobster permits involved in this monitoring and data collection program would collect temperature data and a maximum of 10 eggs from each tagged berried lobster harvested using traditional lobster trap gear. Participating vessels would collect data from each of the four general study areas in the vicinity of Portsmouth, New Hampshire, and Friendship, Maine, the northern edge of Georges Bank and in the vicinity of Corsair and Lydonia Canyons along the southern edge of Georges Bank. This EFP would not involve the authorization of any additional lobster trap gear in the study areas. The participating vessels may retain on deck tagged egg bearing female lobsters, in addition to legal lobsters, for the purpose of collecting temperature data from the attached Tidbit temperature-loggers, and for the purpose of collecting a maximum of 10 eggs from each tagged berried lobster to allow researchers to estimate the egg developmental stage and time to maturity. All berried lobsters would be returned to the sea as quickly as possible after data collection. Pursuant to 50 CFR 600.745(b)(3)(v), the Regional Administrator may attach terms and conditions to the EFP consistent with the purpose of the exempted fishing.

This project would not involve the authorization of any additional lobster trap gear. All traps fished by the participating vessels would comply with all applicable lobster regulations specified at 50 CFR part 697. To allow for the collection of temperature data and the removal of a maximum of 10 eggs from each tagged berried lobster, the EFP would waive the American lobster prohibition on removal of eggs specified at 50 CFR 697.7(c)(1)(iv). All sample collections would be conducted by a maximum of 16 federally permitted commercial fishing vessels, during the course of regular commercial fishing operations. There would not be observers or researchers onboard every participating vessel.

This project, including the lobster handling protocols, was initially developed in consultation with University of New Hampshire scientists. To the greatest extent practicable, these handling protocols are designed to avoid unnecessary adverse environmental impact on lobsters involved in this project, while achieving the data collection objectives of this project.

Authority:

16 U.S.C. 1801 et seq.

Dated: April 3, 2006.
Alan D. Risenhoover,
Acting Director, Office of Sustainable Fisheries, National Marine Fisheries Service.

[FR Doc. E6-5119 Filed 4-6-06; 8:45 am]

BILLING CODE 3510-22-S